ENVIRONMENTAL PROTECTION AGENCY

40 CFR Parts 174 and 180

[EPA-HQ-OPP-2012-0001; FRL-9367-5]

Notice of Filing of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before December 7, 2012.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Biopesticides and Pollution Prevention Division (BPPD) (7511P) or Registration Division (RD) (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR part 174 and part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 2E8064. (EPA-HQ-OPP-2012-0635) Interregional Research Project Number 4 (IR-4), 500 College Rd. East, Suite 201W., Princeton, NJ 08540, requests to establish tolerances in 40 CFR part 180 for residues of the insecticide chlorantraniliprole, 3-bromo-N-[4-chloro-2-methyl-6-[(methylamino)carbonyl]phenyl]-1-(3-chloro-2-pyridinyl)-1H-pyrazole-5-carboxamide, in or on grain, cereal, group 15, except rice at 6.0 parts per million (ppm); grain, cereal, forage, fodder and straw, group 16 at 30.0 ppm; fruit, citrus, group 10-10 at 1.4 ppm; and fruit, pome, group 11-10 at 1.2 ppm. Adequate enforcement methodology (liquid chromatography/mass spectrometry/mass spectrometry—(LC/MS/MS)) is available to enforce the tolerance expression. Contact: Sidney Jackson, RD, (703) 305-7610, email address: jackson.sidney@epa.gov.

2. PP 2E8065. (EPA-HQ-OPP-2012-0775) BASF Corporation, 26 Davis Dr., P.O. Box 13528, Research Triangle Park, NC 27709-3528, requests to establish tolerances in 40 CFR part 180 for residues of the herbicide for the combined residues of saflufenacil (2-chloro-5-[3,6-dihydro-3-methyl-2,6-dioxo-4-(trifluoromethyl)-1(2H)-pyrimidinyl]-4-fluoro-N-[[methyl(1-methylethyl)amino]sulfonyl]benzamide) and its metabolites N-[2-chloro-5-(2,6-dioxo-4-(trifluoromethyl)-3,6-dihydro-1(2H)-pyrimidinyl)-4-fluorobenzoyl]-N′-isopropylsulfamide and N-[4-chloro-2-fluoro-5-({[(isopropylamino)sulfonyl]amino carbonyl)phenyl]urea, calculated as the stoichiometric equivalent of saflufenacil, in or on sugarcane, cane at 0.03 ppm; sugarcane, molasses at 0.075 ppm; and sugarcane, refined sugar at 0.045 ppm . Adequate enforcement methodology (LC/MS/MS methods D0603/02 (plants) and L0073/01 (livestock)) is available to enforce the tolerance expression. Contact: Bethany Benbow, RD, (703) 347-8072, email address: benbow.bethany@epa.gov.

3. PP 2E8072. (EPA-HQ-OPP-2012-0716) IR-4, 500 College Rd. East, Suite 201W., Princeton, NJ 08540, requests to establish tolerances in 40 CFR part 180 for residues of the insecticide fenpyroximate, (E)-1,1-dimethylethyl 4-[[[[(1,3-dimethyl-5-phenoxy-1H-pyrazol-4-yl)methylene]amino]oxy] methyl]benzoate and its Z-isomer, (Z)-1,1-dimethylethyl 4-[[[[(1,3-dimethyl-5- phenoxy-1H-pyrazol-4-yl)methylene] amino]oxy]methyl]benzoate in or on fruit, stone, group 12-12 at 2.0 ppm; fruit, small, vine climbing, except fuzzy kiwifruit, subgroup 13-07F at 1.0 ppm; and vegetable, tuberous and corm, subgroup 1C at 0.1 ppm. An enforcement method has been developed which involves extraction of fenpyroximate from crops with ethyl acetate in the presence of anhydrous sodium sulfate, dilution with methanol, and then analysis by high performance liquid chromatography (HPLC) using tandem mass spectrometric detection (HPLC/MS/MS). This is a new enforcement method. Contact: Sidney Jackson, RD, (703) 305-7610, email address: jackson.sidney@epa.gov.

4. PP 2E8083. (EPA-HQ-OPP-2012-0791) IR-4, 500 College Rd. East, Suite 201W., Princeton, NJ 08540, requests to establish tolerances in 40 CFR part 180 for residues of the herbicide linuron, (3-(3,4-dichlorophenyl)-1-methoxy-1-methylurea) and its metabolites convertible to 3,4-dichloroaniline, calculated as linuron, in or on; cilantro, dried leaves at 27 ppm; cilantro, fresh leaves at 3 ppm; dillweed, dried leaves at 7.1 ppm; dillweed, fresh leaves at 1.5 ppm; dill oil at 4.8 ppm; dill seed at 0.3 ppm; horseradish at 0.050 ppm; parsley, dried leaves at 8.3 ppm; parsley leaves at 3 ppm; and pea, dry, seed at 0.08 ppm. Adequate enforcement methods (gas chromatography/mass selective detection (GC/MSD)) are available for the determination of linuron in plant and animal commodities. A second method involves using reversed phase HPLC with MS/MS detection. Contact: Laura Nollen, RD, (703) 305-7390, email address: nollen.laura@epa.gov.

Amended Tolerance

1. PP 2E8064. (EPA-HQ-OPP-2012-0635) IR-4, 500 College Rd. East, Suite 201W., Princeton, NJ 08540, requests to concurrently delete the tolerances in 40 CFR 180.628 for residues of the insecticide chlorantraniliprole, 3-bromo-N-[4-chloro-2-methyl-6-[(methylamino)carbonyl]phenyl]-1-(3-chloro-2-pyridinyl)-1H-pyrazole-5-carboxamide, in or on mayhaw; corn, field, forage; corn, field, grain; corn, field, milled byproducts; corn, field, stover; corn, pop, forage; corn, pop, grain; corn, pop, stover; corn, sweet, forage; corn, sweet, kernel plus cobs with husk removed; corn, sweet, stover; fruit, citrus, group 10; and fruit, pome, group 11 upon approval of the tolerances listed under “New Tolerance” for PP 2E8064. Contact: Sidney Jackson, RD, (703) 305-7610, email address: jackson.sidney@epa.gov.

2. PP 2E8083. (EPA-HQ-OPP-2012-0791) IR-4, 500 College Rd. East, Suite 201W., Princeton, NJ 08540, requests to delete the regional tolerance in 40 CFR 180.184(c) for residues of the herbicide linuron, (3-(3,4-dichlorophenyl)-1-methoxy-1-methylurea) and its metabolites convertible to 3,4-dichloroaniline, calculated as linuron, in or on parsley, leaves at 0.25 ppm upon approval of the tolerances listed under “New Tolerance” for PP 2E8083. Contact: Laura Nollen, RD, (703) 305-7390, email address: nollen.laura@epa.gov.

New Tolerance Exemption

PP 2E8059. (EPA-HQ-OPP-2012-0795) Pioneer Hi-Bred International, Inc. (DuPont Pioneer), 7100 NW 62nd Avenue, P.O. Box 1000, Johnston, IA 50131, requests to establish an exemption from the requirement of a tolerance for residues of the Glycine max herbicide-resistant acetolactate synthase (GM-HRA) enzyme when used as an inert ingredient as part of a plant-incorporated (PIP) in or on the food and feed commodities of soybean. The petitioner believes no analytical method is needed because an exemption from the requirement of a tolerance without numerical limitation is requested for GM-HRA enzyme as expressed in soybean. Contact: Susanne Cerrelli, BBPD, (703) 308-8077, email address: cerrelli.susanne@epa.gov.

List of Subjects

Environmental protection, Agricultural commodities, Feed additives, Food additives, Pesticides and pests, Reporting and recordkeeping requirements.

Dated: October 26, 2012.
Daniel J. Rosenblatt,
Acting Director, Registration Division, Office of Pesticide Programs.

[FR Doc. 2012-27193 Filed 11-6-12; 8:45 am]

BILLING CODE 6560-50-P